DEPARTMENT OF COMMERCE

International Trade Administration

(A-201-817)

Oil Country Tubular Goods from Mexico: Extension of Time Limit for the Final Results of the Antidumping Duty Administrative Review

AGENCY: Import Administration, International Trade Administration, Department of Commerce.

EFFECTIVE DATE: August 16, 2005.

FOR FURTHER INFORMATION CONTACT: Stephen Bailey, AD/CVD Operations, Office 7, Import Administration, International Trade Administration, U.S. Department of Commerce, 14th Street and Constitution Avenue, NW, Washington, DC 20230; telephone (202) 482-0193.

SUPPLEMENTARY INFORMATION:

Background

On May 10, 2005, the Department of Commerce (“the Department”) published the preliminary results of the administrative review of the antidumping duty order on oil country tubular goods (“OCTG”) from Mexico covering the period August 1, 2003, through July 31, 2004. See Certain Oil Country Tubular Goods from Mexico; Preliminary Results of Antidumping Duty Administrative Review and Partial Rescission, 70 FR 24517 (May 10, 2005). The final results for the antidumping duty administrative review of OCTG from Mexico are currently due no later than September 7, 2005.

Extension of Time Limits for Final Results

Section 751(a)(3)(A) of the Tariff Act of 1930, as amended by the Uruguay Round Agreements Act (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Due to the complexity of issues present in this administrative review, such as universe of sales issues and constructed value calculations, as well as the Department's current demands of other proceedings, the Department has determined that it is not practicable to complete this review within the original time period. Accordingly, the Department is extending the time for completion of the final results, until no later than October 7, 2005, in accordance with section 751(a)(3)(A) of the Act.

We are issuing and publishing this notice in accordance with sections 751(a)(1) and 777(i)(1) of the Act.

Dated: August 10, 2005.
Barbara E. Tillman,
Acting Deputy Assistant Secretary for Import Administration.

[FR Doc. E5-4449 Filed 8-15-05; 8:45 am]

BILLING CODE 3510-DS-S